DEPARTMENT OF TRANSPORTATION

Office of the Secretary

Aviation Proceedings, Agreements Filed the Week Ending March 14, 2003

The following Agreements were filed with the Department of Transportation under the provisions of 49 U.S.C. 412 and 414. Answers may be filed within 21 days after the filing of the application.

Docket Number: OST-2003-14685.

Date Filed: March 11, 2003.

Parties: Members of the International Air Transport Association.

Subject:

PTC2 EUR 0497 dated March 11, 2003.

Mail Vote 273—TC2 Europe.

Resolution 010S—TC2 Within Europe Special Passenger Amending Resolution.

Intended effective date: March 22, 2003.

Docket Number: OST-2003-14703.

Date Filed: March 13, 2003.

Parties: Members of the International Air Transport Association.

Subject:

PTC2 EUR 0499 dated March 14, 2003.

Mail Vote 282—Resolution 010v. TC2 Within Europe Special Passenger Amending Resolution from France to Europe. Intended effective date: March 28, 2003.

Dorothy Y. Beard,
Chief, Docket Operations & Media Management, Federal Register Liaison.

[FR Doc. 03-7082 Filed 3-24-03; 8:45 am]

BILLING CODE 4910-62-P